DEPARTMENT OF TRANSPORTATION

Federal Transit Administration

[Docket No. FTA-2025-0134]

Proposed Rescission of the National Transit Database Weekly Reference Reporting Requirement

AGENCY: Federal Transit Administration (FTA), U.S. Department of Transportation (DOT).

ACTION: Notice, request for comments.

SUMMARY: This notice provides information on the proposed rescission of the National Transit Database's (NTD) Weekly Reference (WE-20) reporting requirement. After careful evaluation, FTA determined the WE-20 reporting requirement no longer offers sufficient value relative to the administrative burden on transit agencies and FTA. Consistent with the Administration's focus on reducing regulations, FTA proposes rescinding the WE-20 reporting requirement.

DATES: Comments should be filed by December 2, 2025.

ADDRESSES: You may send comments, identified by docket number FTA-2025-0134, by any of the following methods:

• Federal eRulemaking Portal: Go to https://www.regulations.gov and follow the online instructions for submitting comments.

• Mail: Send comments to Docket Management Facility; U.S. Department of Transportation, 1200 New Jersey Avenue SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: Fax comments to Docket Management Facility, U.S. Department of Transportation, at (202) 493-2251.

Instructions: You must include the agency name (Federal Transit Administration) and Docket Number (FTA-2025-0134) for this notice, at the beginning of your comments. If sent by mail, submit two copies of your comments.

Electronic Access and Filing: This document and all comments received may be viewed online through the Federal eRulemaking portal at https://www.regulations.gov or at the street address listed above. Electronic submission, retrieval help, and guidelines are available on the Federal eRulemaking portal website. The website is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.) You should not include information in your comment you do not want to be made public. You may review DOT's complete Privacy Act Statement in the Federal Register published on April 11, 2000 (65 FR 19477-78) or at https://www.transportation.gov/privacy.

FOR FURTHER INFORMATION CONTACT: For program questions, Chelsea Champlin, National Transit Database Program Manager, FTA Office of Budget and Policy, 202-366-4050, or Chelsea.champlin@dot.gov. For legal questions, Alexander Lipow, Attorney-Advisor, 202-366-4011, or Alexander.Lipow@dot.gov.

SUPPLEMENTARY INFORMATION:

Background

The NTD was established by Congress to be the Nation's primary source for information and statistics on the transit systems of the United States. Recipients and beneficiaries of FTA grants under either the Urbanized Area Formula Program (49 U.S.C. 5307) or Rural Area Formula Program (49 U.S.C. 5311) are required by law to report data to the NTD. Recipients generally report data on an annual or monthly basis.

During the COVID-19 pandemic, FTA found it did not have sufficient and timely data on transit ridership or transit service levels to inform decision-makers at the Federal, State, and local levels during the rapidly changing crisis situation. To better understand changes in the transit industry on a timely basis during the tumultuous time, FTA went through the notice and comment process (Docket number FTA-2022-0018) pursuant to 49 U.S.C. 5334(k) to, among other things, enable FTA to collect additional data from a sample set of modal reports from across the universe of full, reduced, tribal, and rural reporters on a weekly reference WE-20 Form. FTA finalized the WE-20 reporting requirements in March 2023 (88 FR 13497).

The goal of the sample data collection (received from approximately 400 FTA recipients) was to obtain a representative nationwide snapshot of transit ridership and transit service levels. The sampling methodology uses a stratified random sampling based on region, mode, and other factors. FTA then made sampling adjustments as needed based on unavailable modes, recipients without weekly data access, or other factors.

Although the WE-20 reporting requirement provided important data as the country recovered from the pandemic, it is not required by statute, and after two years of experience with this data collection, FTA has now determined the WE-20 reporting requirement no longer offers sufficient value relative to the administrative burden on transit agencies and is inconsistent with this Administration's deregulatory priorities.

Proposed Recission of the WE-20 Reporting Requirement

In consideration of the foregoing, and consistent with the Administration's focus on reducing regulatory burdens, FTA proposes to rescind the WE-20 reporting requirement. The requirement is not mandated by statute and no longer offers sufficient value relative to the administrative burden on transit agencies. FTA welcomes public comments on the proposed recission.

Marcus J. Molinaro,
Administrator.

[FR Doc. 2025-20086 Filed 11-17-25; 8:45 am]

BILLING CODE 4910-57-P